DEPARTMENT OF THE TREASURY

Fiscal Service

[Docket No. BPD-CC-05-]

Change in the Sell Direct Fee Schedule

AGENCY: Bureau of the Public Debt, Fiscal Service, Treasury.

ACTION: Notice.

SUMMARY: The Department of the Treasury is announcing the fee schedule for Sell Direct. Sell Direct fees are charged to the Legacy Treasury Direct and the TreasuryDirect investor for the service of selling unmatured securities in the secondary market, pursuant to the Regulations Governing Book-Entry Treasury Bonds, Notes and Bills Held in Legacy Treasury Direct® and the Regulations Governing Securities Held in TreasuryDirect®.

DATES: Effective Date: This notice is effective upon publication in the Federal Register.

ADDRESSES: You can download this notice at the following Internet addresses: http://www.publicdebt.treas.gov or http://www.gpoaccess.gov/ecfr.

FOR FURTHER INFORMATION CONTACT: Elisha Whipkey, Director, Division of Program Administration, Office of Securities Operations, Bureau of the Public Debt, at (304) 480-6319 or elisha.whipkey@bpd.treas.gov.

Susan Klimas, Attorney-Adviser, Edward Gronseth, Deputy Chief Counsel, Office of the Chief Counsel, Bureau of the Public Debt, at (304) 480-8692 or susan.klimas@bpd.treas.gov.

SUPPLEMENTARY INFORMATION: A transaction fee is charged to the investor for each security sold in the secondary market using Sell Direct. For purposes of computing the transaction fee, a security is considered as any amount identified by a separate CUSIP number within a Legacy Treasury Direct or TreasuryDirect account. The regulations governing Sell Direct are located at 31 CFR 357.22(b) and 31 CFR part 363.209.

Schedule of Fees for the Sale of Securities in the Secondary Market

The fee schedule for the sale of an unmatured security in the secondary market using Sell Direct is as follows: A fee of $45 will be charged for each security sold in the secondary market on behalf of the investor using Sell Direct.

Dated: October 26, 2005.
Donald V. Hammond,
Fiscal Assistant Secretary.

[FR Doc. 05-21844 Filed 11-1-05; 8:45 am]

BILLING CODE 4810-39-P